DEPARTMENT OF ENERGY

Federal Energy Regulatory Commission

[Project No. 2277-023]

Union Electric Company, dba AmerenUE; Notice of Site Visit

September 3, 2008.

On September 18, 2008, Federal Energy Regulatory Commission (FERC) staff, together with representatives of AmerenUE (the applicant) and the Missouri Department of Natural Resources, will conduct a site visit of the Taum Sauk Pumped Storage Project and a tour of Johnson's Shut-Ins State Park. The purposes of the one-day site visit and tour are to allow FERC staff working on the relicensing to (a) examine the project and its setting, including the adjacent Johnson's Shut-Ins State Park, and (b) weigh the scope of the applicant's proposed studies and additional study requests filed in response to the Commission's public notice issued July 2, 2008.

The site visit for the Taum Sauk Project will begin at 8 a.m. (CDT), with participants meeting at the gate to the Taum Sauk Plant. The tour of Johnson's Shut-Ins State Park will begin at 2 p.m. Participants planning to attend the tour of the park should meet at the project office located in Johnson's Shut-Ins State Park at the Goggins Mountain trailhead. All interested individuals, organizations, and agencies are invited to attend one or both of the site visits. All participants are responsible for their own transportation to the project and park, as well as throughout the day. Anyone with questions about the site visit should contact Allan Creamer of the FERC at (202) 502-8365. Anyone wishing to attend the site visit for the Taum Sauk Project should contact Mr. Michael Lobbig of AmerenUE at (314) 957-3427 to make the necessary arrangements for access to the project site.

Kimberly D. Bose,
Secretary.

[FR Doc. E8-20864 Filed 9-8-08; 8:45 am]

BILLING CODE 6717-01-P